NUCLEAR REGULATORY COMMISSION

Advisory Committee on Nuclear Waste; Notice of Meeting

The Advisory Committee on Nuclear Waste (ACNW) will hold its 134th meeting on April 16-18, 2002, at 11545 Rockville Pike, Rockville, Maryland, Room T-2B3.

The entire meeting will be open to public attendance.

The schedule for this meeting is as follows:

Tuesday, April 16, 2002

A. 12:30—12:40 P.M.: Opening Statement (Open)—The Chairman will open the meeting with brief opening remarks, outline the topics to be discussed, and indicate several items of interest.

B. 12:40—3:30 P.M.: High-Level Waste Risk Insights Initiative (Open)—The Committee will hear a presentation by the NRC staff on the preliminary results of its risk insights initiative.

C. 3:45—4:45 P.M.: Amendment to 10 CFR part 63 (Open)—The NRC staff will provide a briefing on its final rulemaking amendment to Part 63 on the probability for “Unlikely Events” at the proposed Yucca Mountain high-level waste repository site.

D. 4:45—6:00 P.M.: Preparation of ACNW Reports (Open)—The Committee will discuss proposed reports on the following topics.

• High-Level Waste Risk Insights Initiative

• Amendment to 10 CFR part 63 “Unlikely Events”—Final Rule

• Update on Igneous Activity including Performance Assessment Analyses

• HLW Performance Assessment Sensitivity Studies

Wednesday, April 17, 2002

E. 8:30—8:35 A.M.: Opening Remarks by the ACNW Chairman (Open)—The ACNW Chairman will make opening remarks regarding the conduct of the meeting.

F. 8:35—10:00 A.M.: Final Radionuclide Transport Research Plan (Open)—Representatives from the Office of Nuclear Regulatory Research will brief the Committee on its final research plan on Radionuclide Transport in the Environment.

G. 10:15—12:00 Noon: ACNW 2002 Action Plan (Open)—The Committee will discuss a draft of its 2002 Action Plan.

H. 1:00—2:45 P.M.: Site Recommendation—License Application: Path Forward (Open)—The Committee will hear a presentation from the DOE on its proposed plans to move forward from the submission of the Yucca Mountain Site Recommendation.

I. 3:00—4:30 P.M.: Yucca Mountain Review Plan, Revision 2 (Open)—The Committee will discuss its template to conduct an audit of the Yucca Mountain Review Plan, Revision 2.

J. 4:30—6:00 P.M.: Preparation of ACNW Reports (Open)—The Committee will discuss proposed reports on the following topics:

• High-Level Waste Risk Insights Initiative

• Amendment to 10 CFR part 63 “Unlikely Events”—Final Rule

• Update on Igneous Activity including Performance Assessment Analyses

• HLW Performance Assessment Sensitivity Studies

• Final Research Plan on Radionuclide Transport in the Environment

Thursday, April 18, 2002

K. 8:30—8:35 A.M.: Opening Remarks by the ACNW Chairman (Open)—The ACNW Chairman will make opening remarks regarding the conduct of the meeting.

L. 8:35—11:45 A.M.: Preparation of ACNW Reports (Open)—The Committee will continue its discussion of proposed ACNW reports.

M. 11:45—12:00 Noon: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 8:00 A.M. and 4:00 P.M. EST, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

Dated: March 26, 2002.
Andrew L. Bates,
Advisory Committee Management Officer.

[FR Doc. 02-7794 Filed 3-29-02; 8:45 am]

BILLING CODE 7590-01-P